FEDERAL COMMUNICATIONS COMMISSION

47 CFR Part 73

[DA 06-2028; MB Docket No. 06-88; RM-11254]

Radio Broadcasting Services; Boonville and Wheatland, MO

AGENCY: Federal Communications Commission.

ACTION: Final rule.

SUMMARY: The staff grants a rulemaking petition filed by Bittersweet Broadcasting, Inc. to upgrade its Station KWJK-FM, Boonville, Missouri, from Channel 226A to Channel 226C3. To accommodate this upgrade, the Commission substitutes Channel 272A for vacant but applied for Channel 226A at Wheatland, Missouri. With this action, the proceeding is terminated. See SUPPLEMENTARY INFORMATION.

DATES: Effective November 27, 2006.

FOR FURTHER INFORMATION CONTACT: Andrew J. Rhodes, Media Bureau, (202) 418-2180.

SUPPLEMENTARY INFORMATION: This is a synopsis of the Commission's Report and Order, MB Docket No. 06-88, adopted October 11, 2006, and released October 13, 2006. The full text of this Commission decision is available for inspection and copying during normal business hours in the FCC Reference Information Center (Room CY-A257), 445 12th Street, SW., Washington, DC. The complete text of this decision may also be purchased from the Commission's copy contractor, Best Copy and Printing, Inc., Portals II, 445 12th Street, SW., Room CY-B402, Washington, DC 20054, telephone 1-800-378-3160 or http://www.BCPIWEB.com. The Commission will send a copy of the Report and Order in this proceeding in a report to be sent to Congress and the Government Accountability Office pursuant to the Congressional Review Act, see 5 U.S.C. 801(a)(1)(A).

The reference coordinates for Channel 226C3 at Boonville, MO, are 38-51-17 NL and 92-38-17 WL. The reference coordinates for Channel 272 at Wheatland, MO, are 37-58-44 NL and 93-26-49 WL.

The Report and Order also requires that World Radio Link, Inc., the successful bidder in Auction No. 62 for Channel 226A at Wheatland, Missouri, modify its application for Channel 226A at Wheatland to specify Channel 272A at a rule-compliant site. World Radio Link's application is not entitled to cut-off protection vis-à-vis the rulemaking petition because the application was filed after the rulemaking petition.

List of Subjects in 47 CFR Part 73

Radio, Radio broadcasting.

As stated in the preamble, the Federal Communications Commission amends 47 CFR part 73 as follows:

PART 73—RADIO BROADCAST SERVICES

1. The authority for Part 73 continues to read as follows:

Authority: 47 U.S.C. 154, 303, 334, 336.

§ 73.202 [Amended]

2. Section 73.202(b), the Table of FM Allotments under Missouri, is amended by removing Channel 226A and by adding Channel 226C3 at Boonville, and by removing Channel 226A and adding Channel 272A at Wheatland.

Federal Communications Commission.
John A. Karousos,
Assistant Chief, Audio Division, Media Bureau.

[FR Doc. E6-18403 Filed 10-31-06; 8:45 am]

BILLING CODE 6712-01-P